DEPARTMENT OF DEFENSE

Department of the Army

Western Hemisphere Institute for Security Cooperation Board of Visitors; Meeting

AGENCY: Department of the Army, DoD.

ACTION: Notice; correction.

SUMMARY: The notice of an open meeting scheduled for June 27-28, 2012 published in the Federal Register on April 4, 2012 (77 FR 20369) has a new email address for submitting comments. Written statements should be no longer than two type-written pages and sent via fax to (703) 614-8920 or emailed to scott.p.caldwell.civ@mail.mil by 5 p.m. EST on Wednesday, June 20th, 2012, for consideration at this meeting.

FOR FURTHER INFORMATION CONTACT: WHINSEC Board of Visitors Secretariat at (703) 614-8721.

SUPPLEMENTARY INFORMATION: None.

Brenda S. Bowen,
Army Federal Register Liaison Officer.

[FR Doc. 2012-11158 Filed 5-8-12; 8:45 am]

BILLING CODE 3710-08-P